FEDERAL ELECTION COMMISSION

Sunshine Act Meeting

AGENCY: Federal Election Commission.

DATE AND TIME: Thursday, March 9, 2017 at 10:00 a.m.

PLACE: 999 E Street NW., Washington, DC (Ninth Floor).

STATUS: This meeting will be open to the public.

Items To Be Discussed

Draft Advisory Opinion 2016-23: Socialist Workers Party

Audit Division Recommendation Memorandum on the Colorado Republican Committee (CRC) (A13-12)

2017 Chief FOIA Officer Report

Management and Administrative Matters

Individuals who plan to attend and require special assistance, such as sign language interpretation or other reasonable accommodations, should contact Dayna C. Brown, Secretary and Clerk, at (202) 694-1040, at least 72 hours prior to the meeting date.

PERSON TO CONTACT FOR INFORMATION: Judith Ingram, Press Officer, Telephone: (202) 694-1220.

Dayna C. Brown,
Secretary and Clerk of the Commission.

[FR Doc. 2017-04468 Filed 3-2-17; 4:15 pm]

BILLING CODE 6715-01-P